DEPARTMENT OF AGRICULTURE

Forest Service

Kachina Village EIS; Southwestern Region, Arizona, Coconino County, Coconino National Forest

AGENCY: Forest Service, USDA.

ACTION: Notice of intent to prepare an Environmental Impact Statement.

SUMMARY: The Coconino National Forest is planning to prepare an Environmental Impact Statement on a proposal to improve the resiliency of the forest ecosystem by reducing the threat of catastrophic fire, and overall improving forest health. This project will be planned in cooperation with the Grand Canyon Forests Partnership and all interested publics.

DATES: Comments in response to this Notice of Intent concerning the scope of the analysis should be received in writing on or before April 9, 2001.

ADDRESSES: Send written comments to USDA Forest Service, Coconino National Forest, Flagstaff, AZ 86004. Electronic mail may be sent to tkrandall@fs.fed.us

Responsible Official: The Forest Supervisor of the Coconino National Forest, Supervisor's Office 2323 E. Greenlaw Lane, Flagstaff, AZ 86004, will decide what actions are most appropriate for the Kachina Village Project Area.

FOR FURTHER INFORMATION CONTACT: Tammy Randall-Parker, Peaks Ranger District, 5075 North Highway 89, Flagstaff, AZ 86004. (520) 527-8254 or tkrandall@fs.fed.us

SUPPLEMENTARY INFORMATION: The proposal will focus on improving forest health and improving forest resiliency. The project will include the following:

1. Removal of ponderosa pine trees to reduce hazardous fuel loads in the Flagstaff Urban Interface. Simultaneously this action will improve forest health by thinning dense stands of trees, which will improve tree growth, improve the herbaceous understory, protect cultural resources from wildfire, improve and protect wildlife habitat, and watershed functions. Thinning of ponderosa pine will include thinning of smaller diameter ponderosa pine. We estimate ninety-percent of the tree thinned will be small than 12″ dbh. Large old trees, mature ponderosa pine and Douglas-fir will not be removed from the area. These trees are important to wildlife, aesthetic values, and the overall health of the ecosystem. The mature trees are very important and the thinning conducted will help to improve the longevity of these old trees by reducing competition and will also help to protect them in the event of a wildfire event.

2. Prescribed burning and removal of slash created by thinning will be conducted. Prescribed burning will be used to reduce fuel loads and will simultaneously benefit forest health by stimulating understory vegetation. Wildlife, soils, and watershed function will benefit from prescribed fire. Slash created by thinning will be managed and mitigated so that only short-term impacts will occur from thinning slash.

3. Roads will be needed to access areas during thinning. Many roads exist in this area currently and there will be reconstruction needs due to the poor condition of some roads. Very few new roads are anticipated, other than development of temporary roads. A road management plan will focus on the desired future condition that will best manage for wildfire access, recreation access, water quality improvement, and wildlife protection.

4. Recreation management including dispersed camping, trails, recreational opportunities and developments will be woven into our efforts to reduce fire risk (human caused fires), improve forest health, improve watershed and soil function, and improve wildlife habitat, and most importantly better serve the needs of our publics. Caring for the land and serving the people must be balanced and will be integrated into a proposal to improve forest health and resiliency.

Alternatives for this project will be based on public comment to this notice and scoping which will occur during March and April of 2001. A scoping document to include a more detailed proposed action is expected to be available to the public in April. We encourage all interested parties to provide input and suggestions during the month of March. Meetings will be held at the Peaks Ranger District Office on March 1, 15, 22, and 23 to provide comment into the development of a proposed action.

The month of April will include a 30-day comment period on a proposed action for the project area. Based on public comment and issues that come forth from scoping, alternatives will be developed by the USFS Interdisciplinary team assigned to this project. A draft EIS will be developed and available for public comment July or August 2001. A final EIS would be anticipated in September/October of 2001.

The Forest Service believes, at this early stage, it is important to give reviewers notice of several court rulings related to public participation in the environmental review process. To be the most helpful, comments on the draft environmental impact statement should be as specific as possible and may address the adequacy of the statement or the merits of the alternatives discussed (see Council of Environmental Quality Regulations for implementing the procedural provisions of the National Environmental Policy Act at 40 CFR 1503.3).

In addition, Federal court decisions have established that reviewers of draft environmental impact statements must structure their participation in the environmental review of the proposal so that it is meaningful and alerts an agency to the reviewers' positions and contentions. Vermont Yankee Nuclear Power Corp. v. NRDC 435 US 519, 553 (1978). Environmental objections that could have been raised at the draft stage may be waived if not raised until after completion of the final environmental impact statement. City of Angoon v. Hodel 9th Circuit, 1986) and Wisconsin Heritages, Inc v. Harris, 490 F.Supp. 1334, 1338 (E.D. Wis. 1980). The reason for this is to ensure that substantive comments and objections are made available to the Forest Service at a time when it can meaningfully consider them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Dated: February 28, 2001.
Karyl Georgio,
Acting Forest Supervisor.

[FR Doc. 01-5782 Filed 3-8-01; 8:45 am]

BILLING CODE 3410-11-M